NATIONAL AERONAUTICS AND SPACE ADMINISTRATION

[Notice: (19-060)]

NASA Astrophysics Advisory Committee; Meeting

AGENCY: National Aeronautics and Space Administration.

ACTION: Notice of meeting.

SUMMARY: In accordance with the Federal Advisory Committee Act, Public Law 92-463, as amended, the National Aeronautics and Space Administration (NASA) announces a meeting of the Astrophysics Advisory Committee. This Committee reports to the Director, Astrophysics Division, Science Mission Directorate, NASA Headquarters. The meeting will be held for the purpose of soliciting, from the scientific community and other persons, scientific and technical information relevant to program planning.

DATES: Monday, October 28, 2019, 12:00 p.m.-5:00 p.m.; and Tuesday, October 29, 2019, 11:00 a.m.-5:00 p.m., Eastern Time.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be available telephonically and by WebEx. You must use a touch-tone phone to participate in this meeting. Any interested person may dial the USA toll-free conference call number 1-877-922-4779, or toll number 1-312-470-7379, passcode 5276208, to participate in this meeting by telephone on both days. The WebEx link is https://nasaenterprise.webex.com/; the meeting number on October 28 is 903 324 540, password is APACtcon1028#; and the meeting number on October 29 is 908 379 589, password is APACtcon1029#.

The agenda for the meeting includes the following topics:

—Astrophysics Division Update

—Updates on Specific Astrophysics Missions

—Reports from the Program Analysis Groups

—Reports from Specific Research & Analysis Programs

The agenda will be posted on the Astrophysics Advisory Committee web page: https://science.nasa.gov/researchers/nac/science-advisory-committees/apac.

It is imperative that the meeting be held on this date to accommodate the scheduling priorities of the key participants.

Patricia Rausch,
Advisory Committee Management Officer, National Aeronautics and Space Administration.

[FR Doc. 2019-21466 Filed 10-2-19; 8:45 am]

BILLING CODE 7510-13-P